DEPARTMENT OF HEALTH AND HUMAN SERVICES

Nominations Requested/Open for the 2004 Secretary's Innovation in Prevention Awards

AGENCY: Department of Health and Human Services, Office of the Secretary.

ACTION: Notice.

SUMMARY: The Department of Health and Human Services (HHS) seeks nominations of public and private sector organizations to support the 2004 Secretary's Innovation in Prevention Awards Initiative. This activity is part of a broader Departmental initiative called Steps to a Healthier U.S. that advances President George W. Bush's HealthierUS goal of helping Americans live longer, better and healthier lives. The Secretary's Innovation in Prevention Awards Initiative will identify and celebrate outstanding organizations that have implemented innovative and creative chronic disease prevention and health promotion programs. To be nominated, a program must address at least one of the following risk factors: (1) Obesity; (2) Physical activity; and (3) Nutrition.

The Department intends that these awards will provide an opportunity to increase public awareness of creative approaches to develop and expand innovative health programs and duplication of successful strategies.

Awards will be given in the following categories:

• Faith-Based

• Health Care Delivery

• Healthy Workplace

○ Large Employer >500 employees

○ Small Employer <500 employees

• Non-Profit

• Media

• Public Sector

• Schools (K-12)

The following criteria will be taken into consideration upon review:

• Creativity/Innovation

• Leadership

• Sustainability

• Replicability

• Effectiveness

• Receipt of national award(s)

DATES: Nominations must be received by 5 p.m. e.d.t., September 3, 2004.

Nominations: Partnership for Prevention, a 501(c)3 focused on health promotion, is handling all Innovation in Prevention Award nominations on behalf of the Department. To nominate a program send an e-mail to: 2004InnovationAwards@prevent.org. Include your name, organization, award category, and contact information in the text of the message. For more information, contact Partnership for Prevention (202) 833-0009 ext. 112. Partnership for Prevention may request additional information if necessary.

SUPPLEMENTARY INFORMATION: HHS is the U.S. government's principal agency for promoting and protecting the health of all Americans. HHS manages many programs, covering a broad spectrum of health promotion and disease prevention services and activities. Leaders in the business community, State and local government officials, tribes and tribal entities and charitable, faith-based, media, and community organizations have expressed an interest in working with the Department to promote healthy choices and behaviors. The Secretary welcomes this interest. With this notice, the Secretary outlines opportunities for these and other entities to nominate potential awardees, in order to identify and celebrate outstanding organizations that have implemented innovative and creative chronic disease prevention and health promotion programs.

Dated: August 12, 2004.
Penelope Royall,
Deputy Assistant Secretary for Health, Office of Disease Prevention and Health Promotion, Office of Public Health and Science.

[FR Doc. 04-18954 Filed 8-6-04; 2:21 pm]

BILLING CODE 4150-32-P